DEPARTMENT OF COMMERCE

National Telecommunications and Information Administration Multistakeholder Meeting To Develop Consumer Data Privacy Code of Conduct Concerning Mobile Application Transparency

AGENCY: National Telecommunications and Information Administration, U.S. Department of Commerce.

ACTION: Notice of open meeting; reschedule.

SUMMARY: Through this Notice, the National Telecommunications and Information Administration (NTIA) announces that the July 9, 2013 open meeting announced in the Federal Register on June 12, 2013 of the privacy multistakeholder process concerning mobile application transparency has been rescheduled for July 25, 2013.

DATES: The rescheduled meeting will be held on July 25, 2013 from 1:00 p.m. to 5:00 p.m., Eastern Time. See SUPPLEMENTARY INFORMATION for details.

ADDRESSES: The rescheduled meeting will be held in the Gallery at the American Institute of Architects, 1735 New York Avenue NW., Washington, DC 20006.

FOR FURTHER INFORMATION CONTACT: John Verdi, National Telecommunications and Information Administration, U.S. Department of Commerce, 1401 Constitution Avenue NW., Room 4725, Washington, DC 20230; telephone (202) 482-8238; email jverdi@ntia.doc.gov. Please direct media inquiries to NTIA's Office of Public Affairs, (202) 482-7002.

SUPPLEMENTARY INFORMATION: Background: For additional information, please see the Federal Register notice published on June 12, 2013. Notice of Open Public Meeting, Multistakeholder Meeting To Develop Consumer Data Privacy Code of Conduct Concerning Mobile Application Transparency, 78 FR 35260 (June 12, 2013) (Multistakeholder Meeting Notice).

Matters To Be Considered: The July 25, 2013 meeting is part of a series of NTIA-convened multistakeholder discussions concerning mobile application transparency. For additional information, please see the Multistakeholder Meeting Notice.

Time and Date: NTIA will convene a meeting of the privacy multistakeholder process on July 25, 2013, from 1:00 p.m. to 5:00 p.m., Eastern Time. The meeting time is subject to change. Please refer to NTIA's Web site, http://www.ntia.doc.gov/other-publication/2012/privacy-multistakeholder-process-mobile-application-transparency, for the most current information.

Place: The rescheduled meeting will be held in the Gallery at the American Institute of Architects, 1735 New York Avenue NW., Washington, DC 20006. The location of the meeting is subject to change. Please refer to NTIA's Web site, http://www.ntia.doc.gov/other-publication/2012/privacy-multistakeholder-process-mobile-application-transparency, for the most current information.

Other Information: The meeting is open to the public and the press. The meeting is physically accessible to people with disabilities. Requests for sign language interpretation or other auxiliary aids should be directed to John Verdi at (202) 482-8238 or jverdi@ntia.doc.gov at least seven (7) business days prior to the meeting. The meeting will also be webcast. Requests for real-time captioning of the webcast or other auxiliary aids should be directed to John Verdi at (202) 482-8238 or jverdi@ntia.doc.gov at least seven (7) business days prior to the meeting. There will be an opportunity for stakeholders viewing the webcast to participate remotely in the meeting through a moderated conference bridge, including polling functionality. Access details for the meeting are subject to change. Please refer to NTIA's Web site, http://www.ntia.doc.gov/other-publication/2012/privacy-multistakeholder-process-mobile-application-transparency, for the most current information.

Dated: July 2, 2013.
Kathy Smith,
Chief Counsel, National Telecommunications and Information Administration.

[FR Doc. 2013-16300 Filed 7-5-13; 8:45 am]

BILLING CODE 3510-60-P